DEPARTMENT OF DEFENSE

Office of the Secretary

Community Input on Noise Mitigation

AGENCY: Office of Local Defense Community Cooperation, Department of Defense (DoD).

ACTION: Request for information.

SUMMARY: The Office of Local Defense Community Cooperation (OLDCC) is carrying out an effort requested under the report accompanying the Consolidated Appropriations Act, 2021, to, in part, work with communities to find measures that would mitigate noise caused by defense fixed wing aviation activities. Approximately 205 active and reserve installations have been identified with “covered facilities” (hospitals, daycare facilities, schools, facilities serving senior citizens, and private residences) that appear to be located within one mile or a day-night average sound level of 65 decibel or greater of a military installation or another location at which military fixed wing aircraft are stationed. OLDCC is requesting affected communities adjacent to those 205 active and reserve installations to provide feedback through a web portal on measures to mitigate defense aviation noise for OLDCC to consider in its efforts to develop a community noise mitigation program in collaboration with the Service Secretaries.

DATES: Affected jurisdictions should provide feedback by October 4, 2021.

ADDRESSES: You may submit comments by any of the following methods:

A web portal (https://forms.office.com/g/3pp0UCdArk) has been specifically designed to receive this feedback from these jurisdictions over a 45-day period following publication of this notice.

FOR FURTHER INFORMATION CONTACT: Questions about providing feedback may be directed to: David R. Kennedy, 703-697-2136, david.r.kennedy.civ@mail.mil or Scott Spencer, 703-697-2133, scott.j.spencer.civ@mail.mil.

SUPPLEMENTARY INFORMATION: The Office of Local Defense Community Cooperation seeks to work with communities and the Service Secretaries to find measures that would mitigate any impacts from noise caused by defense fixed wing aviation activities, with special attention to communities with new airframes, noting “all types of mitigation efforts should be considered for implementation.”

A significant portion of working with communities at this time is to solicit feedback from leaders and other citizens of civilian jurisdictions within one mile or a day-night average sound level of 65 or greater of a military installation listed in the following list in this notice on what mitigation efforts should be specifically considered for this program. This feedback will be through answers to specific questions designed to help identify tools to mitigate the impact of jet noise, and the costs involved for each. A web portal (https://forms.office.com/g/3pp0UCdArk) has been specifically designed to receive this feedback from these jurisdictions over a 45-day period following publication of this notice. Several non-governmental organizations will also be contacted to share this notice with their respective membership to ensure as broad response population as possible.

Following receipt of this feedback, the Office of Local Defense Community Cooperation will work with the Service Secretaries to define parameters for a responsive and competitive noise mitigation program, including eligible activities, and publish a Federal Funding Opportunity Forecast for public comments later this year.

(1) Are you aware of noise problems within your jurisdiction as a result of military fixed wing aviation activities?

(2) What type of sound attenuation activities are you either presently undertaking or believe is necessary to address the jet (military fixed wing aircraft) noise issues in your jurisdiction—please provide as much detail as possible?

(3) Are there disadvantaged or underserved populations in your jurisdiction that may be unaware of this jet noise and the possibility of federal assistance to attenuate some portion of it? Are there recommendations for reaching them directly?

(4) Are you aware of the Federal Aviation Administration Part 150 program if the source of your noise emanates from a military mission attached to a civilian airport? If so, are you participating in the program and undertaking what activities under that program?

(5) If you have already been responding to noise from military fixed wing aircraft, how much would you estimate you have expended and for what?

TAB A—List of 205 Affected Military Installations
Military service | Component | Installation name | City | State or territory | Civil airport name | FAA part 150 status (1)
Air Force | AF Guard | Birmingham Airport | Birmingham | Alabama | Birmingham Municipal Airport | Not current.
Navy | Navy Active | NOLF Brewton | Brewton | Alabama
Navy | Navy Active | NOLF Silverhill | Daphne | Alabama
Navy | Navy Active | NOLF Evergreen | Evergreen | Alabama
Navy | Navy Active | Barin Field | Foley | Alabama
Air Force | AF Active | Maxwell AFB | Maxwell AFB | Alabama
Air Force | AF Guard | Montgomery Regional Airport ANGB | Montgomery | Alabama | Dannelly Field | Not current.
Navy | Navy Active | NOLF Summerdale | Summerdale | Alabama
Navy | Navy Active | NOLF Wolf | Summerdale | Alabama
Air Force | AF Active | Elmendorf AFB (a.k.a JBER) | Elmendorf AFB | Alaska
Air Force | AF Active | Fort Richardson | Fort Richardson | Alaska
Air Force | AF Active | Eielson AFB | North Pole | Alaska
Air Force | AF Active | Davis Monthan AFB | Davis Monthan AFB | Arizona
Air Force | AF Active | Gila Bend Air Force Auxiliary Field | Gila Bend | Arizona
Air Force | AF Active | The Barry M Goldwater Air Force Range | Gila Bend | Arizona
Air Force | AF Active | Luke AFB | Luke AFB | Arizona
Air Force | AF Guard | Sky Harbor IAP | Phoenix | Arizona | Phoenix Sky Harbor International Airport | Not current.
Air Force | AF Guard | Tucson IAP | Tucson | Arizona | Tucson International Airport | Not current.
Marine Corps | MC Active | MCAS Yuma | Yuma | Arizona
Marine Corps | MC Active | MCAS Yuma | Yuma | Arizona
Marine Corps | MC Active | MCAS Yuma | Yuma | Arizona
Air Force | AF Guard | Fort Smith Map | Fort Smith | Arkansas | Fort Smith Municipal Airport | Not current.
Air Force | AF Guard | Fort Chaffee Weapons Range | Unknown | Arkansas
Air Force | AF Active | Little Rock AFB | Unknown | Arkansas
Air Force | AF Active | Beale AFB | Beale AFB | California
Navy | Navy Active | NAS North Island | Coronado | California
Navy | Navy Active | NAF El Centro | El Centro | California
Air Force | AF Active | Travis AFB | Fairfield | California
Air Force | AF Guard | Fresno Yosemite International ANG | Fresno | California | Fresno Air Terminal (Fresno Yosemite Airport) | Current.
Navy | Navy Active | NOLF Imperial Beach | Imperial Beach | California
Navy | Navy Active | NAS Lemoore CA | Lemoore NAS | California
Air Force | AF Active | Vandenberg Main Base | Lompoc | California
Army | Army Guard | NG TS AFRC Los Alamitos | Los Alamitos | California
Air Force | AF Guard | Moffett Field Cantonment Area | Moffett Field | California
Navy | Navy Active | NAVBASE Ventura Cty Point Mugu CA | Point Mugu | California
Navy | Navy Active | NAWS China Lake | Ridgecrest | California
Air Force | AF Reserve | March ARB | Riverside | California
Marine Corps | MC Active | MCAS Miramar | San Diego | California
Marine Corps | MC Active | Twentynine Palms | Twentynine Palms | California
Air Force | AF Active | AF Plant 42 | Unknown | California
Air Force | AF Active | Edwards AFB | Unknown | California
Air Force | AF Active | USAF Academy | Air Force Academy | Colorado
Air Force | AF Active | USAF Academy Site 2 | Air Force Academy | Colorado
Air Force | AF Active | Buckley AFB | Aurora | Colorado
Air Force | AF Active | Peterson AFB | COLORADO SPRINGS | Colorado
Air Force | AF Guard | Bradley IAP | East Granby | Connecticut | Bradley International | Not current.
Air Force | AF Guard | New Castle Airport | New Castle | Delaware | New Castle County Airport | No Participation.
Air Force | AF Active | Dover AFB | Unknown | Delaware
Air Force | AF Active | Arbuckle Airfield | Avon Park | Florida
Air Force | AF Active | Avon Park AF Range | Avon Park | Florida
Air Force | AF Active | Cape Canaveral Air Force Station | Cape Canaveral AFB | Florida
Air Force | AF Active | Eglin Air Force Auxiliary Field 3 Duke Fld | Crestview | Florida
Air Force | AF Active | Eglin AFB (Eglin Main and Reservation) | Eglin AFB | Florida
Navy | Navy Active | Eglin AFB Navy EOD and JSF | Eglin AFB | Florida
Air Force | AF Reserve | Homestead ARB | Homestead | Florida
Navy | Navy Active | NAS Jacksonville FL | Jacksonville | Florida
Navy | Navy Active | NAVSTA Mayport FL | Jacksonville | Florida
Navy | Navy Active | OLF Whitehouse | Jacksonville | Florida
Navy | Navy Active | NAS Key West FL | Key West Nav Air St | Florida
Air Force | AF Active | Hurlburt Field | Mary Esther | Florida
Air Force | AF Active | Eglin Air Force Auxiliary Field 10 | Milton | Florida
Navy | Navy Active | NAS Whiting Field Milton FL | Milton | Florida
Navy | Navy Active | NOLF Choctaw | Navarre | Florida
Air Force | AF Active | Patrick AFB | Patrick AFB | Florida
Navy | Navy Active | NAS Pensacola FL | Pensacola | Florida
Air Force | AF Guard | Jacksonville IAP | Unknown | Florida | Jacksonville International Airport | No Participation.
Air Force | AF Active | MacDill AFB | Unknown | Florida
Air Force | AF Active | Tyndall AFB | Unknown | Florida
Army | Army Active | Fort Benning | Columbus | Georgia
Air Force | AF Guard | Savannah/Hilton Head IAP | Garden City | Georgia | Savannah International | Not current.
Air Force | AF Reserve | Dobbins ARB | Marrietta | Georgia
Air Force | AF Active | Moody AFB | Moody AFB | Georgia
Air Force | AF Active | Robins AFB | Robins AFB | Georgia
Army | Army Active | Fort Stewart—Hunter AAF | Savanah | Georgia
Air Force | AF Active | JBRM (Anderson AFB) | Anderson AFB | Guam
Marine Corps | MC Active | MCB Hawaii (Kaneohe Bay) | Kaneohe | Hawaii
Navy | Navy Active | CNIC PMRF Barking Sands HI | Kekaha | Hawaii
Army | Army Active | Wheeler Army Airfield | Wahiawa | Hawaii
Air Force | AF Guard | Boise Air Terminal | Unknown | Idaho | Boise Air Terminal—Gowen Field | Partially current.
Air Force | AF Active | Mountain Home AFB | Unknown | Idaho
Air Force | AF Active | Scott AFB | Belleville | Illinois
Air Force | AF Guard | General Wayne A Downing Peoria IAP | Peoria | Illinois | Greater Peoria Airport (PIA), Peoria | Not current.
Air Force | AF Reserve | Grissom ARB | Bunker Hill | Indiana
Army | Army Guard | NG Camp Atterbury | Edinburg | Indiana
Air Force | AF Guard | Fort Wayne IAP-1 848 Acres | Fort Wayne | Indiana | Fort Wayne International Airport | No Participation.
Air Force | AF Guard | Sioux Gateway Airport (ANG) | Sioux City | Iowa | Sioux Gateway Airport (Brigadier General Bud Day Field) | No Participation.
Air Force | AF Guard | Forbes Field ANG | Topeka | Kansas | Topeka Regional Airport (Forbes Field) | No Participation.
Air Force | AF Active | McConnell AFB | Wichita | Kansas
Army | Army Active | Fort Campbell KY | Fort Campbell | Kentucky
Air Force | AF Guard | Louisville IAP-Standiford FL Site 1 | Louisville | Kentucky | Standiford Field | Current.
Air Force | AF Active | Barksdale AFB | Barksdale AFB | Louisiana
Navy | Navy Active | NAS JRB New Orleans LA | Belle Chasse | Louisiana
Air Force | AF Guard | Bangor IAP | Bangor | Maine | Bangor International Airport | No Participation.
Air Force | AF Active | JB Andrews | Andrews AFB | Maryland
Air Force | AF Guard | Martin State Airport | Middle River | Maryland | Martin State Airport | No Participation.
Navy | Navy Active | Naval Air Station Patuxent River | Patuxent River | Maryland
Navy | Navy Active | Webster Field | Saint Inigoes | Maryland
Air Force | AF Reserve | Westover ARB | Chicopee | Massachusetts | Westover Airport | Current.
Air Force | AF Guard | Otis ANG Base | Otis ANG, Mashpee | Massachusetts
Air Force | AF Guard | Barnes Map (ANG) | Westfield | Massachusetts | Westfield-Barnes Regional Airport | Update in progress.
Air Force | AF Guard | Selfridge ANGB | Mount Clemens | Michigan
Air Force | AF Guard | Duluth IAP | Duluth | Minnesota | Duluth | Update in progress.
Army | Army Guard | NG Camp Ripley | Little Falls | Minnesota
Air Force | AF Reserve | Minn-St Paul | Minneapolis | Minnesota | Minneapolis-Saint Paul International | Not current.
Air Force | AF Guard | Camp Shelby Range | Beaumont | Mississippi
Air Force | AF Active | Keesler AFB | Biloxi | Mississippi
Air Force | AF Guard | Jackson IAP Thompson Field Site 2 | Camp Shelby | Mississippi
Air Force | AF Guard | Jackson IAP Thompson Field | Flowood | Mississippi | Allen C. Thompson/Jackson International | Not current.
Air Force | AF Guard | Key Field | Meridian | Mississippi | Meridian Regional (Key Field) Airport | No Participation.
Navy | Navy Active | NAS Meridian MS | Meridian | Mississippi
Navy | Navy Active | OLF Bravo | Preston | Mississippi
Air Force | AF Active | Columbus AFB | Unknown | Mississippi
Air Force | AF Guard | Rosecrans MAP (139AG) | St. Joseph | Missouri | Rosecrans Memorial Airport | No Participation.
Air Force | AF Active | Whiteman AFB | Whiteman AFB | Missouri
Air Force | AF Guard | Great Falls IAP | Great Falls | Montana | Great Falls International Airport (GTF), Great Falls | Not current.
Air Force | AF Guard | Lincoln Map | Lincoln | Nebraska | Lincoln Municipal Lincoln | Not current.
Air Force | AF Active | Offut AFB | Offutt AFB. | Nebraska
Navy | Navy Active | NAS Fallon NV | Fallon | Nevada
Air Force | AF Active | Creech AFB | Indian Springs | Nevada
Air Force | AF Active | Nellis | Las Vegas | Nevada
Air Force | AF Guard | Reno Tahoe IAP | Reno | Nevada | Reno-Tahoe International Airport | Not current.
Air Force | AF Guard | Pease ANGB | Portsmouth | New Hampshire | Pease International | Not current.
Air Force | AF Guard | Atlantic City IAP | Egg Harbor Township | New Jersey | Atlantic City International Airport | Not current.
Air Force | AF Active | McGuire (a.k.a. JB MDL) | Mcguire AFB | New Jersey
Air Force | AF Active | Lakehurst (a.k.a. JB MDL) | Unknown | New Jersey
Air Force | AF Active | Cannon AFB | Cannon AFB | New Mexico
Air Force | AF Active | Holloman AFB | Holloman AFB | New Mexico
Air Force | AF Active | Kirtland | Kirtland AFB | New Mexico
Air Force | AF Reserve | Niagara Falls | Niagara Falls | New York | Buffalo Niagara International | Not current.
Air Force | AF Guard | Hancock Field | Syracuse | New York | Syracuse—Hancock International | Not current.
Air Force | AF Guard | Stewart IAP | Unknown | New York | Stewart International Airport (New York Stewart | No Participation.
Air Force | AF Guard | Francis S Gabreski Airport | Westhampton Beach | New York | Francis S. Gabreski Airport | No Participation.
Marine Corps | MC Active | ALF Bogue | Bogue | North Carolina
Air Force | AF Guard | Charlotte/Douglas IAP | Charlotte | North Carolina | Charlotte/Douglas International Airport (CLT), Charlotte | Current.
Marine Corps | MC Active | MCAS Cherry Point | Cherry Point | North Carolina
Army | Army Active | Fort Bragg—Pope AAF | Fort Bragg | North Carolina
Army | Army Active | Fort Bragg—Camp Mackall | Hoffman | North Carolina
Air Force | AF Active | Seymour Johnson AFB | Seymour Johnson AFB | North Carolina
Air Force | AF Guard | Hector IAP | Fargo | North Dakota | Hector International Airport | No Participation.
Air Force | AF Active | Grand Forks AFB | Grand Forks AFB | North Dakota
Air Force | AF Active | Minot AFB | Minot AFB | North Dakota
Air Force | AF Guard | Toledo/Exp Airport | Swanton | Ohio | Toledo Express Airport | Not current.
Air Force | AF Guard | Rickenbacker | Unknown | Ohio | Rickenbacker Airport | Not current.
Air Force | AF Reserve | Youngstown | Vienna | Ohio | Youngstown Warren Airport | No Participation.
Air Force | AF Active | Wright-Patt AFB | Wright-Patterson AFB | Ohio
Air Force | AF Active | Altus AFB | Altus AFB | Oklahoma
Army | Army Active | Fort Sill | Fort Sill | Oklahoma
Air Force | AF Active | Tinker AFB | Oklahoma City | Oklahoma
Air Force | AF Guard | Will Rogers World Airport | Oklahoma City | Oklahoma | Will Rogers World Airport | Not current.
Air Force | AF Guard | Tulsa IAP | Tulsa | Oklahoma | Tulsa International Airport | Not current.
Air Force | AF Active | Kegelman Air Force Auxiliary Field | Unknown | Oklahoma
Air Force | AF Active | Vance AFB | Unknown | Oklahoma
Air Force | AF Guard | Kingsley Field Cantonement Site 1 | Kingsley Field | Oregon | Crater Lake Klamath Regional | No Participation.
Air Force | AF Guard | Portland IAP ANG | Portland | Oregon | Portland International | Not current.
Air Force | AF Reserve | Pittsburgh IAP (ARS) | Coraopolis | Pennsylvania | Greater Pittsburgh International Airport | Not current.
Air Force | AF Guard | Harrisburg IAP (ANG) | Middletown | Pennsylvania | Harrisburg International Airport | Current.
Air Force | AF Guard | Luis Munoz Marin IAP | Carolina | Puerto Rico | San Juan Airport/Luis Muñoz Marín International Airport | No Participation.
Air Force | AF Guard | Quonset State Airport | North Kingstown | Rhode Island | Quonset State Airport | No Participation.
Marine Corps | MC Active | MCAS Beaufort | Beaufort | South Carolina
Air Force | AF Active | Shaw AFB | Shaw AFB | South Carolina
Air Force | AF Active | Charleston AFB (a.k.a JB Charleston) | Unknown | South Carolina
Air Force | AF Guard | McEntire Joint National Guard Base | Unknown | South Carolina
Air Force | AF Active | North Air Force Auxiliary Field | Unknown | South Carolina
Air Force | AF Active | Ellsworth AFB | Ellsworth AFB | South Dakota
Air Force | AF Guard | Joe Foss Field | Sioux Falls | South Dakota | Sioux Falls Regional Airport (Joe Foss Field) | No Participation.
Air Force | AF Guard | McGhee Tyson Airport | Louisville | Tennessee | McGhee-Tyson Airport | Not Current.
Air Force | AF Guard | Memphis IAP | Memphis | Tennessee | Memphis International Airport | Not current.
Air Force | AF Active | Dyess AFB | Abilene | Texas
Navy | Navy Active | NALF Goliad | Berclair | Texas
Navy | Navy Active | ALF Cabaniss | Corpus Christi | Texas
Navy | Navy Active | ALF Waldron | Corpus Christi | Texas
Navy | Navy Active | NAS Corpus Christi TX | Corpus Christi | Texas
Army | Army Active | Fort Bliss | El Paso | Texas
Navy | Navy Active | NAS Fort Worth JRB TX | Fort Worth | Texas
Air Force | AF Active | Kelly Field Annex | Kelly AFB | Texas
Army | Army Active | Fort Hood—Robert Gray AAF | Killeen | Texas
Navy | Navy Active | NAS Kingsville TX | Kingsville | Texas
Navy | Navy Active | ALF Orange | Orange Grove | Texas
Air Force | AF Active | Camp Bullis Training Annex | San Antonio | Texas
Air Force | AF Active | Laughlin AFB | Unknown | Texas
Air Force | AF Active | Randolph AFB | Unknown | Texas
Air Force | AF Active | Seguin Auxiliary Field | Unknown | Texas
Air Force | AF Active | Sheppard AFB | Unknown | Texas
Air Force | AF Active | Spofford Aux (Laughlin Aux #1) | Unknown | Texas
Air Force | AF Active | Hill AFB | Hill AFB | Utah
Air Force | AF Guard | Salt Lake City IAP | Salt Lake City | Utah | Salt Lake City Airport | Not current.
Air Force | AF Active | Utah Test and Training Range South UT | Unknown | Utah
Air Force | AF Guard | Burlington IAP | South Burlington | Vermont | Burlington International | Current.
Air Force | AF Active | Langley AFB (a.k.a JBLE) | Langley AFB | Virginia
Air Force | AF Active | Fort Eustis | Newport News | Virginia
Navy | Navy Active | NAVSTA Norfolk VA | Norfolk | Virginia
Navy | Navy Active | ALF Fentress Chesapke | Virginia Beach | Virginia
Navy | Navy Active | NAS Oceana VA | Virginia Beach | Virginia
Navy | Navy Active | OLF Coupeville | Coupeville | Washington
Air Force | AF Active | Fairchild AFB | Fairchild AFB | Washington
Navy | Navy Active | NAS Whidbey Island WA | Oak Harbor | Washington
Army | Army Active | McChord AFB | Tacoma | Washington
Air Force | AF Guard | Yeager Airport | Charleston | West Virginia | Yeager Airport | No Participation.
Air Force | AF Guard | EWVRA Shepherd Field | Martinsburg | West Virginia | Eastern WV Regional Airport/Shepherd Field | Initiated but not completed.
Air Force | AF Guard | Volk ANGB | Camp Douglas | Wisconsin
Air Force | AF Guard | Gen Mitchell IAP | Milwaukee | Wisconsin | General Mitchell International Airport | Not current.
Army | Army Reserve | Fort McCoy | Sparta | Wisconsin
Air Force | AF Guard | Truax ANGB | Unknown | Wisconsin | Dane County Regional-Truax Field | Update in progress.
Air Force | AF Active | F E Warren AFB | Cheyenne | Wyoming
Air Force | AF Guard | Cheyenne Regional Airport | Unknown | Wyoming | Cheyenne Airport | Not current.
Note:
(1) Only airports that are owned and operated by a local civilian authority will have an identified Civil Airport Name and FAA Status of the locations Part 150 Federal Program.

Dated: August 16, 2021.
Aaron T. Siegel,
Alternate OSD Federal Register Liaison Officer, Department of Defense.

[FR Doc. 2021-17775 Filed 8-18-21; 8:45 am]

BILLING CODE 5001-06-P